DEPARTMENT OF EDUCATION

Applications for New Awards; Investing in Innovation Fund—Development Grants; Correction

AGENCY: Office of Innovation and Improvement, Department of Education.

ACTION: Notice; correction.

Catalog of Federal Domestic Assistance (CFDA) Number: 84.411P (Development grants Pre-Application) and 84.411C (Development grants Full Application).

SUMMARY: On March 30, 2015, we published in the Federal Register (80 FR 16648) a notice inviting applications for new awards under the Investing in Innovation Fund (i3) Development grants. This correction notice changes the deadline date for transmittal of pre-applications from April 29, 2015, to May 5, 2015.

DATES: Effective April 15, 2015.

SUPPLEMENTARY INFORMATION:

Correction

In the Federal Register of March 30, 2015 (80 FR 16648), on page 16648, in the middle of the third column under the heading Overview Information, and on page 16656, in the middle of the first column, under 3. Submission Dates and Times, we change the deadline date for transmittal of pre-applications from “April 29, 2015,” to “May 5, 2015.”

Program Authority: American Recovery and Reinvestment Act of 2009, Division A, Section 14007, Pub. L. 111-5.

FOR FURTHER INFORMATION CONTACT: Kelly Terpak, U.S. Department of Education, 400 Maryland Avenue SW., Room 4C107, Washington, DC 20202-5930. Telephone: (202) 453-7122. FAX: (202) 205-5631 or by email: i3@ed.gov.

If you use a telecommunications device (TDD) or a text telephone (TTY), call the Federal Relay Service, toll free, at 1-800-877-8339.

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: April 10, 2015.
Nadya Chinoy Dabby,
Assistant Deputy Secretary for Innovation and Improvement.

[FR Doc. 2015-08631 Filed 4-14-15; 8:45 am]

BILLING CODE 4000-01-P